NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time: December 11, 2020; 11:00 a.m.-5:30 p.m.

Place: Virtual meeting sponsored by the National Science Foundation, Directorate for Education and Human Resources, 2415 Eisenhower Avenue, Alexandria, VA 22314.

All participants must register at least 48 hours before the meeting. To attend this virtual meeting in listen-in only mode, send your request to stemedadvisory@nsf.gov. The final meeting agenda will be posted to: https://www.nsf.gov/ehr/advisory.jsp.

Type of Meeting: Open.

Contact Person: Keaven Stevenson, Directorate Administrative Coordinator, Room C11001, National Science Foundation, 2415 Eisenhower Avenue, Alexandria, VA 22314; Contact Information: 703-292-8600/kstevens@nsf.gov.

Summary of Minutes: Agenda and Minutes will be available on the STEM Education Advisory Panel website at https://nsf.gov/ehr/STEMEdAdvisory.jsp or can be obtained from Dr. Nafeesa Owens, National Science Foundation, 2415 Eisenhower Avenue, Room C11000, Alexandria, VA 22314; (703) 292-8600/stemedadvisory@nsf.gov.

Purpose of Meeting: To provide advice to the Committee on Science, Technology, Engineering, and Mathematics Education (CoSTEM) and to assess CoSTEM's progress.

Agenda

• Welcoming Remarks

• FC-STEM and Tiger Teams

• Interagency Working Groups

• CoSTEM Activities

• STEM Education Advisory Panel Subcommittees

• Closing Remarks

Dated: November 12, 2020.
Crystal Robinson,
Committee Management Officer.

[FR Doc. 2020-25290 Filed 11-16-20; 8:45 am]

BILLING CODE 7555-01-P